DEPARTMENT OF ENERGY

Federal Energy Regulatory Commission

Combined Notice of Filings #1

Take notice that the Commission received the following electric corporate filings:

Docket Numbers: EC14-87-000.

Applicants: Oklahoma Cogeneration, LLC.

Description: Application for Authorization for Disposition of Jurisdictional Facilities of Oklahoma Cogeneration, LLC.

Filed Date: 5/15/14.

Accession Number: 20140515-5121.

Comments Due: 5 p.m. ET 6/5/14.

Take notice that the Commission received the following electric rate filings:

Docket Numbers: ER14-1576-000.

Applicants: Emera Maine.

Description: Supplement to March 21, 2014 Request for Waiver of 18 CFR Section 37.6(k) of Emera Maine.

Filed Date: 5/8/14.

Accession Number: 20140508-5180.

Comments Due: 5 p.m. ET 5/22/14.

Docket Numbers: ER14-1964-000.

Applicants: LSP Safe Harbor Holdings, LLC.

Description: Notice of Succession to be effective 5/14/2014.

Filed Date: 5/14/14.

Accession Number: 20140514-5148.

Comments Due: 5 p.m. ET 6/4/14.

Docket Numbers: ER14-1965-000.

Applicants: Southwest Power Pool, Inc.

Description: 1765R10 KCP&L-GMO NITSA and NOA to be effective 5/1/2014.

Filed Date: 5/15/14.

Accession Number: 20140515-5057.

Comments Due: 5 p.m. ET 6/5/14.

Docket Numbers: ER14-1966-000.

Applicants: Idaho Power Company.

Description: Notice of Cancellation of Goshen-Kinport Line Communications Agreement to be effective 7/17/2014.

Filed Date: 5/15/14.

Accession Number: 20140515-5064.

Comments Due: 5 p.m. ET 6/5/14.

Docket Numbers: ER14-1967-000.

Applicants: Southwest Power Pool, Inc.

Description: Notice of Cancellation of MEAN Meter Agent Services Agreement of Southwest Power Pool, Inc.

Filed Date: 5/15/14.

Accession Number: 20140515-5157.

Comments Due: 5 p.m. ET 6/5/14.

Docket Numbers: ER14-1968-000.

Applicants: Southwest Power Pool, Inc.

Description: Notice of Cancellation of LES Meter Agent Services Agreement of Southwest Power Pool, Inc.

Filed Date: 5/15/14.

Accession Number: 20140515-5158.

Comments Due: 5 p.m. ET 6/5/14.

Docket Numbers: ER14-1969-000.

Applicants: Public Service Company of Colorado.

Description: 2014-5-15 Wind Integration Filing to be effective 8/1/2014.

Filed Date: 5/15/14.

Accession Number: 20140515-5202.

Comments Due: 5 p.m. ET 6/5/14.

Take notice that the Commission received the following electric securities filings:

Docket Numbers: ES14-41-000.

Applicants: NorthWestern Corporation.

Description: Application for Authorization under Section 204 of the Federal Power Act to Issue Securities of NorthWestern Corporation.

Filed Date: 5/15/14.

Accession Number: 20140515-5129.

Comments Due: 5 p.m. ET 6/5/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2014.
Nathaniel J. Davis, Sr.,
Deputy Secretary.

[FR Doc. 2014-11936 Filed 5-22-14; 8:45 am]

BILLING CODE 6717-01-P